DEPARTMENT OF EDUCATION

National Advisory Committee on Institutional Quality and Integrity (NACIQI or Committee)

AGENCY: Office of Postsecondary Education, U.S. Department of Education.

ACTION: Announcement of an open meeting.

SUMMARY: This notice sets forth the agenda, time, and instructions to access or participate in the August 1-3, 2023, virtual meeting of NACIQI, and provides information to members of the public regarding the meeting, including requesting to make written or oral comments. Committee members will meet in-person while accrediting agency representatives and public attendees will participate virtually.

ADDRESSES: Department of Education, Barnard Auditorium, 400 Maryland Avenue SW, Washington, DC 20202. Only NACIQI members and Department of Education staff will meet at this address.

DATES: The virtual NACIQI meeting will be held on August 1-3, 2023, from 9:00 a.m. to 5:00 p.m. Eastern Time.

FOR FURTHER INFORMATION CONTACT: George Alan Smith, Executive Director/Designated Federal Official (DFO), NACIQI, U.S. Department of Education, 400 Maryland Avenue SW, Washington, DC 20202, telephone: (202) 453-7757, or email: George.Alan.Smith@ed.gov.

SUPPLEMENTARY INFORMATION:

Statutory Authority and Function

NACIQI is established under section 114 of the HEA (20 U.S.C. 1011c). NACIQI advises the Secretary of Education with respect to:

• The establishment and enforcement of the standards of accrediting agencies or associations under subpart 2, part H, Title IV of the HEA, as amended;

• The recognition of specific accrediting agencies or associations;

• The preparation and publication of the list of nationally recognized accrediting agencies and associations;

• The eligibility and certification process for institutions of higher education under Title IV of the HEA, together with recommendations for improvement in such process;

• The relationship between (1) accreditation of institutions of higher education and the certification and eligibility of such institutions, and (2) State licensing responsibilities with respect to such institutions; and

• Any other advisory functions relating to accreditation and institutional eligibility that the Secretary of Education may prescribe by regulation.

The notice of this meeting is required by 5 U.S.C. chapter 10 (Federal Advisory Committees) and section 114(d)(1)(B) of the Higher Education Act of 1965, as amended (HEA).

Virtual Meeting Agenda

The purpose of the virtual meeting is to conduct a review of the applications for renewal of recognition and compliance reports listed below and to present and discuss policy-related matters.

Applications for Renewal of Recognition

1. Association of Advanced Rabbinical and Talmudic Schools, Accreditation Commission. Scope of Recognition: The accreditation and preaccreditation (“Correspondent” and “Candidate”) of advanced rabbinical and Talmudic schools to include Associate, Baccalaureate, Masters, Doctorate, and First Rabbinic and First Talmudic degrees programs. Geographic Area of Accrediting Activities: Throughout the United States.

2. Academy of Nutrition and Dietetics, Accreditation Council for Education in Nutrition and Dietetics. Scope of Recognition: The accreditation and preaccreditation of Didactic and Coordinated Programs in Dietetics at both the undergraduate and graduate level, postbaccalaureate Dietetic Internships, and Dietetic Technician Programs at the associate degree level and for its accreditation of such programs offered via distance education. Geographic Area of Accrediting Activities: Throughout the United States.

3. American Optometric Association, Accreditation Council on Optometric Education. Scope of Recognition: The accreditation of professional optometric degree programs and optometric residency programs, and for the preaccreditation category of Preliminary Approval for professional optometric degree programs. Geographic Area of Accrediting Activities: Throughout the United States.

4. Commission on Collegiate Nursing Education. Scope of Recognition: The accreditation of nursing education programs at the baccalaureate, master's, doctoral, and certificate levels, including programs offering distance education. Geographic Area of Accrediting Activities: Throughout the United States.

5. Council on Accreditation of Nurse Anesthesia Educational Programs. Scope of Recognition: The accreditation of institutions and programs of nurse anesthesia at the post master's certificate, master's, or doctoral degree levels, including programs offering distance education. Geographic Area of Accrediting Activities: Throughout the United States.

Requested Scope of Recognition: The accreditation of institutions and programs of nurse anesthesia at the post master's certificate, post-doctoral certificate, master's, or doctoral degree levels, including programs offering distance education. Geographic Area of Accrediting Activities: Throughout the United States.

6. Liaison Committee on Medical Education. Scope of Recognition: The accreditation of medical education programs leading to the M.D. degree. Geographic Area of Accrediting Activities: Throughout the United States.

7. National Association of Schools of Art and Design, Commission on Accreditation. Scope of Recognition: The accreditation of freestanding institutions and units offering art/design and art/design-related programs (both degree- and non-degree-granting), including those offered via distance education. Geographic Area of Accrediting Activities: Throughout the United States.

8. Northwest Commission on Colleges and Universities. Scope of Recognition: The accreditation and preaccreditation (“Candidacy status”) of postsecondary degree-granting educational institutions and the accreditation of programs offered via distance education within these institutions. Geographic Area of Accrediting Activities: Throughout the United States.

Compliance Reports

1. Commission on Massage Therapy Accreditation. Scope of Recognition: The accreditation of institutions and programs that award postsecondary certificates, postsecondary diplomas, academic Associate degrees and occupational Associate degrees, in the practice of massage therapy, bodywork, and aesthetics/esthetics and skin care. Geographic Area of Accrediting Activities: Throughout the United States. The compliance report addresses findings of noncompliance with Criteria in 34 CFR part 602, as referenced in the senior Department official's (SDO) (as defined in 34 CFR 602.3) decision letter dated June 02, 2021, available under NACIQI meeting date February 25, 2021, available at: https://surveys.ope.ed.gov/erecognition/#/public-documents.

Military Degree Granting Authority Substantive Change Approval in Accordance With Department of Defense DOD Instruction 5545.04

1. The National Defense University. Name Change of degree program from “Master of Science in Government Information Leadership” to “Master of Science in Strategic Information and Cyberspace Studies.”

To ensure sufficient time for all agency reviews, including NACIQI member questions and discussion, the Department requests that agencies limit the total time of their opening statements to 10 minutes, and that agencies avoid extended discussions about their representatives and backgrounds. Following the opening statement, the agency's presentation should focus on regulatory criteria—particularly to responses to areas where the staff has recommended a finding of noncompliance or substantial compliance, or where other concerns have been raised that the agency would like to address. Questions from NACIQI members may focus on other areas.

Administration Policy Update

A representative of the Administration will discuss higher education policy priorities.

Regulations Subcommittee Report

The NACIQI Regulations Subcommittee will present recommendations to the Committee for review and consideration for sharing with the Department in advance of the Department's upcoming negotiated rulemaking process.

Accreditor Dashboards

A member of the Department staff will provide an update on recent changes to the Accreditor Dashboards.

NACIQI Policy Discussion

In addition to its review of accrediting agencies for Secretarial recognition, there will be time for Committee discussions regarding any of the categories within NACIQI's statutory authority in its capacity as an advisory committee.

Instructions To Access or Participate in the Virtual Meeting

Accrediting agency representatives and members of the public must access or participate in the meeting virtually.

You must register online at https://cvent.me/04MvVB any time before the meeting begins on August 1, 2023.

After you register, you will receive a confirmation email containing personalized participation links for each day of the three-day meeting.

Public Comment

Submission of requests to make an oral comment regarding a specific accrediting agency under review, or to make an oral comment or written statement regarding other issues within the scope of NACIQI's authority:

The opportunity to submit a written statement regarding a specific accrediting agency under review was solicited by a previous Federal Register notice published on May 5, 2022 (87 FR 26743; Document Number 2022-09582). The opportunity to submit written statements regarding the National Defense University (NDU) was solicited by a previous Federal Register notice published on November 14, 2022 (87 FR 68144; Document Number 2022-24637). The periods for submission of such statements are now closed. Additional written statements regarding the specific accrediting agencies and institution under review as identified in this Federal Register notice will not be accepted or provided to NACIQI members for purposes of the current cycle of review. However, members of the public may submit written statements regarding other issues within the scope of NACIQI's authority for consideration by NACIQI in the manner described below. Members of the public may also make oral comments regarding the specific accrediting agencies and institution under review, as identified in this Federal Register notice, and/or other agenda topics. Oral comments may not exceed three minutes. Oral comments about an agency's recognition when a compliance report has been required by the SDO or the Secretary must relate to the criteria for recognition cited in the SDO's letter that requested the report, or in the Secretary's appeal decision, if any. Oral comments about an agency seeking expansion of scope must be directed to the agency's ability to serve as a recognized accrediting agency with respect to the kinds of institutions or programs requested to be added. Oral comments about the renewal of an agency's recognition must relate to its compliance with the criteria for the Recognition of Accrediting Agencies, which are available at www.ed.gov/admins/finaid/accred/index.html.

Written statements and oral comments concerning NACIQI's work outside of a specific accrediting agency under review must be limited to matters within the scope of NACIQI's authority as outlined under Section 114 of the HEA (20 U.S.C. 1011c). Written statements of any kind submitted after the deadline will not be considered by the Department or provided to NACIQI for purposes of the current cycle of review. Requests to make oral comments that are received outside of the periods noted below will not be accepted.

Instructions on Requesting To Make Public Comment

To request to make oral comments of three minutes or less during the August 1-3, 2023 virtual meeting, please follow Method One or Method Two below. To submit a written statement to NACIQI concerning its work outside of a specific accrediting agency under review, please follow Method One.

Method One: Submit a request by email to the ThirdPartyComments@ed.gov mailbox. Please do not send material directly to NACIQI members. Written statements to NACIQI concerning its work outside of a specific accrediting agency under review and requests to make oral comment must be received by 5:00pm Eastern Time on July 25, 2023 and include the subject line “Oral Comment Request: (agency name),” “Oral Comment Request: (subject)” or “Written Statement: (subject).” The email must include the name(s), title, organization/affiliation, mailing address, email address, and telephone number, of the person(s) submitting a written statement or requesting to speak. All individuals submitting an advance request in accordance with Method One will be afforded an opportunity to speak. If you intend to make your comments by dialing into the meeting rather than using a computer, please be sure to include that information in your email request.

Method Two (Available only to those seeking to make oral comments): Submit a request by email on August 1, 2023, between 7:45 a.m. to 8:45 a.m. Eastern Time to ThirdPartyComments@ed.gov; requests outside of this period will not be accepted. The email must include the subject line “Oral Comment Request: (agency name),” or “Oral Comment Request: (subject)” on which the requestor wishes to comment, in addition to his or her name, title, organization/affiliation, mailing address, email address, and telephone number. If you intend to make your comments by dialing into the meeting rather than using a computer, please include that information in your email request. For each agenda item, we will allot a total of up to 15 minutes for oral commenters who submit a request in accordance with Method Two. We will select individuals using Method Two on a first-come, first-served basis. If selected, each commenter may not exceed three minutes.

Access to Records of the Virtual Meeting: The Department will post the official report of the virtual meeting on the NACIQI website at https://sites.ed.gov/naciqi/archive-of-meetings within 90 days after the meeting. In addition, pursuant to 5 U.S.C. 1009, the public may request to inspect records of the meeting at 400 Maryland Avenue SW, Washington, DC, by emailing aslrecordsmanager@ed.gov or by calling (202) 453-7415 to schedule an appointment. SDO decisions, pursuant to 34 CFR 602.36, associated with all NACIQI meetings are located at the following website: https://surveys.ope.ed.gov/erecognition/#/public-documents.

Reasonable Accommodations: The dial-in information and weblink access to the virtual meeting are accessible to individuals with disabilities. If you will need an auxiliary aid or service to participate in the virtual meeting (e.g., interpreting service, assistive listening device, or materials in an alternate format), notify the contact person in this notice at least two weeks before the meeting. Although we will attempt to meet a request received after that date, we may not be able to make available the requested auxiliary aid or service because of insufficient time to arrange it.

Electronic Access to This Document: The official version of this document is the document published in the Federal Register. Free internet access to the official edition of the Federal Register and the Code of Federal Regulations is available via the Federal Digital System at www.gpo.gov/fdsys. At this site you can view this document, as well as all other documents of the Department published in the Federal Register, in text or Adobe Portable Document Format (PDF). To use PDF, you must have Adobe Acrobat Reader, which is available free at the site. You also may access documents of the Department published in the Federal Register by using the article search feature at www.federalregister.gov. Specifically, through the advanced search feature at this site, you can limit your search to documents published by the Department.

Authority: Section 114 of the HEA of 1964, as amended (20 U.S.C. 1011c).

Annmarie Weisman,
Deputy Assistant Secretary for Policy, Planning and Innovation, Office of Postsecondary Education.

[FR Doc. 2023-13917 Filed 6-29-23; 8:45 am]

BILLING CODE 4000-01-P